DEPARTMENT OF JUSTICE

Notice of Lodging of an Amendment to Consent Decree Under the Clean Air Act

Notice is hereby given that on February 14, 2011, a proposed Amendment to the consent decree in United States et al. v. Lafarge North America, et al., Civil Action No. 3:10-cv-44-JPG was lodged with the United States District Court for the Southern District of Illinois.

On March 18, 2010, the United States District Court for the Southern District of Illinois entered a consent decree (“decree”) resolving claims of the United States and twelve states or state agencies against Lafarge North America, Inc.'s, Lafarge Midwest, Inc.'s, and Lafarge Building Materials, Inc.'s (“Lafarge's”) for alleged violations of the Clean Air Act (“CAA” or “Act”) at its thirteen portland cement production facilities in the United States. Specifically, the consent decree resolved alleged violations of the Act's Prevention of Significant Deterioration (“PSD”) provisions, 42 U.S.C. 7470-92; Nonattainment New Source Review (“NNSR”) provisions, 42 U.S.C. 7501-15; the federally approved and enforceable state implementation plans (“SIPs”) which incorporate and/or implement the above-listed Federal PSD and/or NNSR requirements; and the CAA Title V operating permit requirements, 42 U.S.C. 7661-61f, including Title V's implementing federal and state regulations. Among other requirements, the consent decree requires Lafarge to install and continuously operate two wet flue gas desulfurization devices (“Wet FGDs”) to control SO2 emissions from Kilns 22 and 23 at Lafarge's Alpena, Michigan cement production facility.

The proposed Amendment to the decree allows Lafarge the option of installing a single Wet FGD to control combined SO2 emissions from both Kilns 22 and 23 at its Alpena, Michigan cement production facility, rather than the two Wet FGDs required by the decree. In addition, the proposed Amendment requires Lafarge to: (1) Install single Wet FGD three months earlier than currently required in the decree for one of the Alpena cement kilns; (2) design the Wet FGD to collect the combined SO2 emissions from both Kilns 22 and 23 at Lafarge's Alpena facility; and (3) develop a malfunction abatement plan, subject to EPA and state approval under the decree, intended to minimize emissions in the event of a malfunction of each Wet FGD at Ravena and Alpena. These requirements ensure that the proposed Amendment to the decree will achieve equivalent or better emission reductions for SO2 than those currently required.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States et al. v. Lafarge North America, et al., Civil Action No. 3:10-cv-44-JPG, DJ# 90-5-2-1-08221.

The proposed Amendment to the consent decree may be examined at the Office of the United States Attorney, Southern District of Illinois, Nine Executive Drive, Fairview Heights, Illinois 62208-1344 (contact Assistant United States Attorney J. Christopher Moore (618) 628-3700)), and at U.S. Environmental Protection Agency, Region 5, 77 West Jackson Boulevard, Chicago, IL 60604-3590 (contact Associate Regional Counsel Louise Gross (312/886-6844)). During the public comment period, the proposed Consent Decree, may also be examined on the following Department of Justice Web site, to http://www.usdoj.gov/enrd/Consent_Decrees.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.50 (25 cents per page reproduction cost) payable to the U.S. Treasury or, if by e-mail or fax, forward a check in that amount to the Consent Decree Library at the stated address.

Maureen M. Katz,
Assistant Section Chief, Environmental Enforcement Section, Environment and Natural Resources Division.

[FR Doc. 2011-4519 Filed 2-28-11; 8:45 am]

BILLING CODE 4410-15-P